DEPARTMENT OF ENERGY

Federal Energy Regulatory Commission

[Project No. 13416-000]

Gunderson Lutheran Hydro LLC; Notice of Preliminary Permit Application Accepted for Filing and Soliciting Comments, Motions To Intervene, and Competing Applications

June 10, 2009.

On March 30, 2009, Gunderson Lutheran Hydro LLC filed an application, pursuant to section 4(f) of the Federal Power Act, proposing to study the feasibility of the Mississippi River Lock and Dam No. 7 (Lock & Dam 7 Project), to be located at River Mile 702.5 on the Mississippi River in Winona County, Minnesota, and La Crosse, Wisconsin, and near the town of La Crescent, MN.

The proposed Lock & Dam 7 Project would be integral with the existing U.S. Army Corps of Engineers (Corps) Lock & Dam No. 7 which is comprised of a 940-foot-long gated dam section with 5 roller gates and 11 Taintor gates, a 600 foot-long lock, and a 8,100-foot-long earth dike. The Corps project reservoir occupies a portion of the Upper Mississippi River National Wildlife and Fish Refuge.

The proposed hydro project would consist of: (1) 7 uni-directional turbines installed in an auxiliary lock with generators having a total installed capacity of 4,963 kilowatts (kW); (2) a new transformer; and (3) a new 500-foot-long transmission line to an existing above ground local distribution system. The project would have an estimated average annual generation of 41.33 gigawatt-hours.

Applicant Contact: Mr. Jeff Rich, Gunderson Lutheran Hydro LLC, 1900 South Avenue, LaCrosse, WI 54601, phone (608) 775-6970.

FERC Contact: Michael Spencer, (202) 502-6093.

Competing Application: This application competes with Project No. 13337-000 filed November 24, 2008. Competing applications must be filed on or before July 13, 2009.

Deadline for filing comments, motions to intervene: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13337) in the docket number field to access the document. For assistance, call toll-free 1-866-208-3372.

Kimberly D. Bose,
Secretary.

[FR Doc. E9-14198 Filed 6-16-09; 8:45 am]

BILLING CODE 6717-01-P